DEPARTMENT OF ENERGY

Federal Energy Regulatory Commission

[Docket No. RP00-343-000]

Kinder-Morgan Interstate Gas Transmission Co.; Notice of Technical Conference

October 5, 2000.

On June 15, 2000, Kinder-Morgan Interstate Gas Transmission Company (Kinder Morgan) submitted a filing to comply with Order No. 637. Several parties have protested various aspects of Kinder-Morgan's filing. On August 18, 2000, Kinder Morgan submitted certain substitute pro forma tariff sheets to reflect the Commission's action in an order issued July 26, 2000, in Docket No. RP00-316-000. In that order, the Commission accepted in part and rejected in part certain tariff changes proposed by Kinder-Morgan.

Take notice that a technical conference to discuss the various issues raised by Kinder-Morgan's filing will be held on Wednesday, November 1, 2000, at 10 a.m., in a room to be designated at the offices of the Federal Energy Regulatory Commission, 888 First Street, NE, Washington, DC 20426. Parties protesting aspects of Kinder-Morgan's filing should be prepared to discuss alternatives.

All interested persons and Staff are permitted to attend.

Linwood A. Watson, Jr.,
Acting Secretary.

[FR Doc. 00-26126 Filed 10-11-00; 8:45 am]

BILLING CODE 6717-01-M